ENVIRONMENTAL PROTECTION AGENCY

[FRL-8518-1]

Determination of Sole Source Aquifer Petition

AGENCY: Environmental Protection Agency.

ACTION: Notice of Sole Source Aquifer Petition Determination.

SUMMARY: The United States Environmental Protection Agency (EPA) today provides notice that it approves the petition to designate the Española Basin Aquifer System a Sole Source Aquifer. The aquifer is eligible for designation because it is the principal source of drinking water for the area covered by the petition.

ADDRESSES: The administrative record underlying today's decision was available for inspection at the EPA Region 6, 1445 Ross Avenue, Dallas, Texas 75202. EPA had also posted a fact sheet, summary of public comments and responses, and a decision support document on its Web site at http://www.epa.gov/earth1r6/6wq/swp/ssa.

FOR FURTHER INFORMATION CONTACT: Michael Bechdol, Environmental Scientist, Source Water Protection Branch (6WQ-SG), EPA Region 6, 1445 Ross Ave., Dallas, TX 75202-2733, phone (214) 665-7133, bechdol.michael@epa.gov.

SUPPLEMENTARY INFORMATION: Pursuant to Section 1424(e) of the Safe Drinking Water Act (SDWA), 42 U.S.C. 300h-3(e), EPA may designate an aquifer a “sole source aquifer” if it serves as the sole or principal drinking water source for an area and contamination of that aquifer would create a significant hazard to public health. EPA may essentially “veto” financial assistance proposed by Federal agencies for projects it finds may contaminate such a designated aquifer. To date, EPA has designated 75 sole source aquifers.

On June 2, 2006, EPA received a petition for sole source aquifer designation from the La Cienega Valley Citizens for Environmental Safeguards. The petition sought designation for the Española Basin Aquifer System, which covers approximately 3,000 sq miles which includes the cities of Santa Fe, Los Alamos and Española. The area also includes the Pueblos of San Juan, Santa Clara, Pojoaque, San Ildefonso, Nambe, Tesuque, Picuris, and Cochiti. The U.S. census for 2000 shows a population in the petitioned area of approximately 172,750, including around 70,000 in the City of Santa Fe. To show the aquifer was the primary source of drinking water for the area, the petitioner relied on documentation of water rights allocated to water users by the New Mexico Office of the State Engineer and by U.S. Geological Survey's 1990 generalized estimates of water use in New Mexico.

EPA published notice of the petition in the Santa Fe New Mexican and requested comments thereon. It received a number of comments and carefully considered them in reaching today's decision. EPA also performed an independent review of the hydrology and water use in the area covered by the petition. The Agency concludes that approximately 85% of the drinking water used in the area covered by the petition is derived from wells in the aquifer. EPA thus approves the Española Basin Aquifer System petition.

Dated: January 10, 2008.
Richard E. Greene,
Regional Administrator, Region 6.

[FR Doc. E8-999 Filed 1-18-08; 8:45 am]

BILLING CODE 6560-50-P